DEPARTMENT OF THE INTERIOR

National Park Service

National Register of Historic Places; Notification of Pending Nominations and Related Actions

Nominations for the following properties being considered for listing or related actions in the National Register were received by the National Park Service before October 24, 2009. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by November 25, 2009.

J. Paul Loether,
Chief, National Register of Historic Places/National, Historic Landmarks Program.

ARIZONA

Maricopa County

Roosevelt Addition Historic District, 600 block of W. 3rd St., Tempe, 09000959

Pima County

Gist Residence, 5626 E. Burns St., Tucson, 09000960

CONNECTICUT

New London County

St. James Episcopal Church, 76 Federal St., New London, 09000961

FLORIDA

Lee County

First Baptist Church of Boca Grande, 421 4th St. W., Boca Grande, 09000962

MARYLAND

Caroline County

Brick House Farm, 24870 E. Cherry Ln., Greensboro, 09000963

Leverton, Jacob and Hannah, House, 3531 Seaman Rd., Preston, 09000964

MASSACHUSETTS

Bristol County

Head of the River Historic District, 2-28 Main St., Acushnet; 2-28 Mill Rd., 2-13 Tarkiln Hill Rd., New Bedford, 09000965

NEW JERSEY

Hunterdon County

Seargeantsville Historic District, Co. Rts. 523 & 604, Lambert Rd., Delaware Dr., Delaware Township, 09000972

Morris County

Chamberlain, George, House, 315 Dover-Milton Rd., Jefferson, 09000973

Union County

Frazee, Elizabeth and Gershom, House, 1451 Raritan Rd., Scotch Plains, 09000971

NEW YORK

Kings County

Kol Israel Synagogue, 603 St. John's Place, Brooklyn, 09000966

Shaari Zedek Synagogue, 767 Putnam Ave., Brooklyn, 09000968

Suffolk County

Sherwood-Jayne House, 55 Old Post Rd., East Setauket, 09000969

Sullivan County

Spring House, 54 River Rd., Barryville, 09000970

Wayne County

Towar-Ennis Farmhouse and Barn Complex, 265 NY 14, Lyons, 09000967

OKLAHOMA

Craig County

Attucks School, 346 S. 4th, Vinita, 09000974

Ellis County

Ingle Brothers Broomcorn Warehouse, 320 NW 1st St., Shattuck, 09000975

Greer County

Downtown Mangum Historic District, (County Courthouses of Oklahoma TR) roughly bounded by E. Lincoln, S. Pennsylvania, N. Oklahoma and S. Oklahoma, Mangum, 09000976

Jefferson County

Irving Baptist Church, OK Rt. 1 Box 32, Ryan, 09000977

Oklahoma County

Citizens, 2200 N. Classen Blvd., Oklahoma City, 09000978

Payne County

Bassett House, The, 1100 E. 9th Pl., Cushing, 09000979

TEXAS

Collin County

Allen Water Station, N. of Exchange Pkwy on Cottonwood Creek, Allen, 09000980

Kendall County

Herff-Rozelle Farm, 33 Heroff Rd., Boerne, 09000983

Tarrant County

First National Bank Building, 711 Houston St., Fort Worth, 09000981

Petroleum Building, 210 W. 6th. St., Fort Worth, 09000982

S. Main St. Historic District, 104, 108, 126 & 200 blocks S. Main St., Fort Worth, 09000984

UTAH

Carbon County

42Cb1252, (Nine Mile Canyon, Utah) Address Restricted, Price, 09000988

42Cb145, (Nine Mile Canyon, Utah) Address Restricted, Price, 09001019

42Cb1758, (Nine Mile Canyon, Utah) Address Restricted, Price, 09000992

42Cb2024, (Nine Mile Canyon, Utah) Address Restricted, Price, 09000989

42Cb2043, (Nine Mile Canyon, Utah) Address Restricted, Price, 09001012

42Cb2218, (Nine Mile Canyon, Utah) Address Restricted, Price, 09000990

42Cb242, (Nine Mile Canyon, Utah) Address Restricted, Price, 09000991

42Cb31, (Nine Mile Canyon, Utah) Address Restricted, Price, 09001021

42Cb33, (Nine Mile Canyon, Utah) Address Restricted, Price, 09000994

42Cb36, (Nine Mile Canyon, Utah) Address Restricted, Price, 09000999

42Cb46, (Nine Mile Canyon, Utah) Address Restricted, Price, 09000998

42Cb48, (Nine Mile Canyon, Utah) Address Restricted, Price, 09000997

42Cb50, (Nine Mile Canyon, Utah) Address Restricted, Price, 09000993

42Cb51, (Nine Mile Canyon, Utah) Address Restricted, Price, 09001000

42Cb52, (Nine Mile Canyon, Utah) Address Restricted, Price, 09001020

42Cb690, (Nine Mile Canyon, Utah) Address Restricted, Price, 09001002

42Cb697, (Nine Mile Canyon, Utah) Address Restricted, Price, 09001003

42Cb729, (Nine Mile Canyon, Utah) Address Restricted, Price, 09001005

42Cb730, (Nine Mile Canyon, Utah) Address Restricted, Price, 09001011

42Cb731, (Nine Mile Canyon, Utah) Address Restricted, Price, 09001004

42Cb736, (Nine Mile Canyon, Utah) Address Restricted, Price, 09001008

42Cb743, (Nine Mile Canyon, Utah) Address Restricted, Price, 09001007

42Cb744, (Nine Mile Canyon, Utah) Address Restricted, Price, 09001018

42Cb745, (Nine Mile Canyon, Utah) Address Restricted, Price, 09001017

42Cb746, (Nine Mile Canyon, Utah) Address Restricted, Price, 09000996

42Cb804, (Nine Mile Canyon, Utah) Address Restricted, Price, 09001006

42Cb809, (Nine Mile Canyon, Utah) Address Restricted, Price, 09000995

42Cb811, (Nine Mile Canyon, Utah) Address Restricted, Price, 09001010

42Cb851, (Nine Mile Canyon, Utah) Address Restricted, Price, 09000986

42Cb893, (Nine Mile Canyon, Utah) Address Restricted, Price, 09001009

42Cb969, (Nine Mile Canyon, Utah) Address Restricted, Price, 09000985

42Cb974, (Nine Mile Canyon, Utah) Address Restricted, Price, 09000987

42Dc706, (Nine Mile Canyon, Utah) Address Restricted, Price, 09001016

Cottonwood Village, (Nine Mile Canyon, Utah) Address Restricted, Price, 09001015

Drop-Dead Ruin, (Nine Mile Canyon, Utah) Address Restricted, Price, 09001014

First Canyon Site, (Nine Mile Canyon, Utah) Address Restricted, Price, 09001013

42Dc306, (Nine Mile Canyon, Utah) Address Restricted, Price, 09001040

42Dc638, (Nine Mile Canyon, Utah) Address Restricted, Price, 09001039

42Dc682, (Nine Mile Canyon, Utah) Address Restricted, Price, 09001026

Duchesne County

42Dc683, (Nine Mile Canyon, Utah) Address Restricted, Price, 09001027

42Dc684, (Nine Mile Canyon, Utah) Address Restricted, Price, 09001038

42Dc685, (Nine Mile Canyon, Utah) Address Restricted, Price, 09001037

42Dc686, (Nine Mile Canyon, Utah) Address Restricted, Price, 09001036

42Dc687, (Nine Mile Canyon, Utah) Address Restricted, Price, 09001035

42Dc688, (Nine Mile Canyon, Utah) Address Restricted, Price, 09001034

42Dc696, (Nine Mile Canyon, Utah) Address Restricted, Price, 09001025

42Dc700, (Nine Mile Canyon, Utah) Address Restricted, Price, 09001022

42Dc702, (Nine Mile Canyon, Utah) Address Restricted, Price, 09001033

42Dc703, (Nine Mile Canyon, Utah) Address Restricted, Price, 09001031

42Dc704, (Nine Mile Canyon, Utah) Address Restricted, Price, 09001030

42Dc705, (Nine Mile Canyon, Utah) Address Restricted, Price, 09001023

42Dc708, (Nine Mile Canyon, Utah) Address Restricted, Price, 09001029

42Dc709, (Nine Mile Canyon, Utah) Address Restricted, Price, 09001028

42Dc710, (Nine Mile Canyon, Utah) Address Restricted, Price, 09001024

42Dc712, (Nine Mile Canyon, Utah) Address Restricted, Price, 09001032

Centennial House, (Nine Mile Canyon, Utah) Address Restricted, Price, 09001042

Fool's Pinnacle, (Nine Mile Canyon, Utah) Address Restricted, Price, 09001041

Karen's Cist, (Nine Mile Canyon, Utah) Address Restricted, Price, 09001043

Maxies Pad, (Nine Mile Canyon, Utah) Address Restricted, Price, 09001044

Nordell's Fort, (Nine Mile Canyon, Utah) Address Restricted, Price, 09001045

Redman Village, (Nine Mile Canyon, Utah) Address Restricted, Price, 09001047

Sunstone Village, (Nine Mile Canyon, Utah) Address Restricted, Price, 09001046

Taylor's City, (Nine Mile Canyon, Utah) Address Restricted, Price, 09001048

VIRGINIA

Albemarle County

Lewis Mountain, 1 Lewis Mountain Pkwy., Charlottesville, 09001052

Charlotte County

Four Locust Farm, US Rt. 15, Keysville, 09001053

Gloucester County

Walker, T.C., House, 1 Main St., Gloucester, 09001050

Mecklenburg County

More, MacCallum and Hudgins House Historic District, 603 Hudgins St., 439 Walker St., Chase City, 09001051

Rockbridge County

Willson House, 367 VA 673, Lexington, 09001049

[FR Doc. E9-26845 Filed 11-9-09; 8:45 am]

BILLING CODE P